DEPARTMENT OF TRANSPORTATION

Federal Transit Administration

Preparation of Environmental Impact Statement for Transit Improvements in the US 90A/Southwest Rail Corridor in Metropolitan Houston, TX

AGENCY: Federal Transit Administration (FTA), Department of Transportation (DOT).

ACTION: Notice of Intent to prepare an Environmental Impact Statement.

SUMMARY: The Federal Transit Administration (FTA) and the Metropolitan Transit Authority of Harris County (METRO) intend to prepare an Environmental Impact Statement (EIS) in accordance with the National Environmental Policy Act (NEPA), to evaluate the proposed transit improvements in the US 90A/Southwest Rail corridor in the Houston metropolitan area (Harris County). The US 90A/Southwest Rail corridor extends approximately eight miles from the vicinity of the Fannin South Station at the southern terminus of the existing METRORail Red Line to West Sam Houston Tollway (Beltway 8) in Missouri City, Texas. The proposed scope of the EIS, including the project's purpose and need, an initial set of alternatives proposed for evaluation, and the significant impacts to be considered, are presented below. A public scoping process seeking comment on the scope of the EIS is announced below.

DATES: Comment Due Date: Written comments on the scope of the EIS, including the project's purpose and need, and the alternatives and impacts to be considered should be sent to the Metropolitan Transit Authority of Harris County (METRO) no later than March 11, 2011. See ADDRESSES below.

Scoping Meeting Dates: Public Scoping meetings for the US 90A/Southwest Rail Corridor Transit Project will be held on February 14, 2011, February 15, 2011, February 16, 2011 and February 22, 2011. See ADDRESSES below for meeting times and locations. Presentation of the study corridor and the proposed scope of the study will be made at the meetings, followed by an opportunity for the public to ask question or make comments on the project's purpose and need, the alternatives to be evaluated and the impacts to be assessed. Scoping information material will be available on the project Web site at http://www.ridemetro.org and at the meeting and may also be obtained in advance of the meeting by contacting METRO at the address identified in ADDRESSES below. Any person who requires language interpretation or special communication accommodations is encouraged to contact the METRO Community Outreach Hotline at (713) 739-4018 at least 72 hours prior to the scoping meeting. The location for the meetings will be accessible to persons with disabilities.

ADDRESSES: Written comments should be sent to:

Edmund Petry, Lead Environmental Planner, METRO Infrastructure & Service Development, 1900 Main Street, Houston, Texas 77002.

You can also obtain information and contact METRO about issues for the US 90A/Southwest Rail Corridor Transit Project from the project Web site at http://www.ridemetro.org. Scoping meetings will be held at the following locations:

Meeting 1: February 14, 2011 from 2 p.m. to 4 p.m.

Houston-Galveston Area Council (Agency Scoping), 3777 Timmons, Conference Room A 2nd Floor, Houston, TX 77027.

Meeting 2: February 15, 2011 from 11 a.m. to 2 p.m.

Waterside Café, TMC Commons Area, 6550 Bertner STE: 1, Houston, TX 77030.

Meeting 3: February 15, 2011 from 6 p.m. to 8 p.m.

Missouri City Community Center, 1522 Texas Parkway, Missouri City, TX 77489.

Meeting 4: February 16, 2011 from 6 p.m. to 8 p.m.

The Power Center, Southeast Ballroom, 12401 S. Post Oak Road, Houston, TX 77045.

Meeting 5: February 22, 2011 from 6 p.m. to 8 p.m.

Westbury High School, Atrium, 11911 Chimney Rock, Houston, TX 77035.

FOR FURTHER INFORMTION CONTACT: Daisy Mather, Environmental Protection Specialist, FTA Region VI, 819 Taylor Street, Ft. Worth, Texas 76102, Telephone (817) 978-0550.

SUPPLEMENTARY INFORMATION:

Scoping

METRO and FTA invite all interested individuals and organizations, and Federal, State, Native American Tribal, regional, and local governmental agencies to comment on the scope of the EIS, including the project's purpose and need, the alternatives to be studied, the impacts to be evaluated, and the assessment methods to be used.

Comments may address (1) the project's purpose and need, (2) feasible alternatives that may better achieve the project's purpose and need with fewer adverse impacts, and (3) any significant environmental or community impacts relating to the alternatives.

NEPA scoping (Title 40 of the Code of Federal Regulations [CFR] 1501.7) has specific and fairly limited objectives, one of which is to identify the significant issues associated with alternatives that will be examined in detail in the document, while simultaneously limiting consideration and development of issues that are not truly significant. It is in the NEPA scoping process that potentially significant environmental and community impacts—those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives * * * [by requiring] impact statements to be concise, clear, and to the point, and supported by evidence that agencies have made the necessary environmental analyses.” Executive Order 11991, May 24, 1977.

Once the scope of the environmental study, including significant environmental issues to be addressed, is settled, an annotated outline of the document will be prepared and shared with interested agencies and the public. The outline serves at least three worthy purposes, including (1) documenting the results of the scoping process; (2) contributing to the transparency of the process; and (3) providing a clear roadmap for concise development of the environmental document.

Purpose and Need for the Project

The US 90A/Southwest Rail Corridor Transit Project has been identified in the 2035 Regional Transportation Plan Update (2035 RTP Update) of the Houston-Galveston Area Council (H-GAC) and the METRO Solutions 2025 Plan (METRO, August 2003) as a priority transportation investment.

The US 90A/Southwest Rail corridor continues to increase in population and employment with limited traffic capacity on existing streets and highways resulting in increased travel time, delays, and air pollution. Portions of the US 90A/Southwest Rail corridor are already densely developed. New development and redevelopment is occurring along the corridor and is expected to generate increased travel demand. In particular, high density, mixed use developments are planned in the corridor.

Travel patterns in the corridor are influenced by US 59 as it connects the southwestern end of the study area in Fort Bend County to Downtown Houston and the Texas Medical Center (TMC). Much of the growth in traffic along US 59 is a result of residential growth in Fort Bend County, as well as an increase in population and employment in major activity centers in Houston, including Downtown Houston and the TMC. High levels of congestion on US 59 result in traffic being diverted onto US 90A and the local road network.

Over the past few decades, both Fort Bend County and Harris County have experienced steady and significant population and employment growth. Future projections indicate that the rate of growth will continue to be high over the next 25-30 years, particularly in Fort Bend County. By 2035, population in the study area is projected to increase by 46 percent from 21,903 to 31,897, households by 49 percent from 8,079 to 12,039, and employment by 42 percent from 24,157 to 34,242. H-GAC, 2008.

Growth is generating greater demand than can be met by existing transportation facilities and other planned improvements. Transit improvements in the US 90A/Southwest Rail corridor will fill an important role in meeting the overall mobility needs for southwest Houston.

The strongest travel pattern in the US 90A/Southwest Rail corridor currently exists to and from the TMC, with 27,174 daily trips. This relationship is projected to continue and daily trips are projected to increase to 31,855 by 2035. There are also important existing travel patterns between the study area and destinations such as Uptown/Galleria (18,752), Downtown (11,924), and Greenway Plaza (10,642) and these are all projected to increase substantially by 2035—to Uptown/Galleria (23,913), Downtown (18,620), and Greenway Plaza (15,166). H-GAC 2005 and 2035 Person Trip Tables.

US 90A/Southwest Rail Corridor Transit Project would connect important employment areas such as Downtown Houston and the Texas Medical Center (TMC) (with 130,000 and 74,000 jobs respectively) with the cities of Missouri City and Stafford (with a combined population of nearly 100,000 residents and 32,000 jobs) U.S. Census Bureau, 2007 and 2008. The US 90A/Southwest Rail Project would also link Fort Bend County/southwest Harris County and other major activity centers currently served by the existing METRORail Red Line, including several college campuses (the University of Houston, Houston Community College and Rice University) and cultural, sports and entertainment complexes (Reliant Park, Minute Maid Park, Toyota Center, the Houston Zoo, and the Museum District).

METRO does provide bus service in the US 90A/Southwest Rail corridor; however buses operate in mixed-flow traffic on city streets for a portion of their route. As a result, bus travel times are influenced by roadway congestion which is anticipated to increase. Peak period bus travel times can be as much as 30 percent longer than travel times during off-peak periods. In addition to slower peak period travel times, the reliability of bus service in the US 90A/Southwest Rail corridor is influenced by traffic incident-induced congestion and delays.

The Houston metropolitan area is a severe nonattainment area for the eight-hour ground level ozone standard for air quality. At a minimum, transportation improvements must not degrade air quality and should strive to reduce mobile source emissions in the future. Providing alternatives to automobile travel is a key ingredient in reducing mobile source emissions.

The purpose of the proposed project is to improve mobility, accessibility, and system linkage between the major residential areas in Missouri City and Stafford with major employment centers, such as Downtown Houston and the TMC. The proposed transit improvement would provide a high speed transit alternative to the traffic congestion in the corridor and further the implementation of the METRO Rail Expansion Program.

A key component of service in the US 90A/Southwest Rail Corridor Transit Project would be the regional connectivity that it would offer. The proposed US 90A/Southwest Rail corridor transit service would connect to the existing METRORail Red Line, which would provide access to Downtown, Midtown, the Museum District and other major activity centers. Good connectivity to mainline transit service is important for maintaining and expanding transit ridership. Without convenient transit network access, ridership in the US 90A/Southwest Rail corridor would be adversely affected by decreased bus speeds and increased travel times directly attributable to increased traffic congestion.

Project Location and Environmental Setting

The study area is located within the Houston urban area and is defined as being within the roughly 5-mile wide travel corridor that contains US 90A/Southwest Rail. The majority of the study area is within Harris County, with a small portion within Fort Bend County. The corridor is about eight miles long, linking the City of Houston and the City of Missouri City. It extends from the Fannin South Station at the southern terminus of the existing METRORail Red Line to West Sam Houston Tollway (Beltway 8) and US 90A.

US 90A, a major northeast-to-southwest highway, runs the length of the study area. IH-610 borders the study area on the north and Beltway 8 borders the study area on the west. The study area is bisected by the Union Pacific (UP) freight railroad; the study area parallels the UP Glidden subdivision and is intersected by the UP Terminal subdivision.

Alternatives

Preliminary alternatives identified include a No Build Alternative and various Build Alternatives. Additional alternatives may emerge from comments received during the scoping process. Technology alternatives will be addressed during the EIS process including those alternatives that would require use of Federal Railroad Administration (FRA) compliant rail vehicles, such as would be case with Build Alternative 3 below. The initial list of alternatives proposed for consideration is as follows:

No Build Alternative: This alternative includes all transportation facilities and services programmed for implementation by 2030. This alternative includes highway and roadway improvements, as well as transit facilities. The H-GAC 2035 RTP serves as the basis for defining the elements of the No Build Alternative. The No Build Alternative proposes no major transit or transportation improvements in the US 90A/Southwest Rail corridor.

Alternative 1—North of UP Railroad—Buffalo Lakes/West Bellfort: This light rail transit (LRT) alternative begins in the vicinity of Beltway 8 and US 90A and runs northeast along the north side of the UP Railroad right-of-way. It turns north and runs through the future Buffalo Lakes development. At West Bellfort Road, it turns east and follows West Bellfort Road to Fannin Street, where it turns north to connect to the existing METRORail Red Line. A Hillcroft/West Airport Alignment Option turns north at Hillcroft Street and then east onto West Airport Boulevard. After crossing Chimney Rock Road, it merges back along the north side of the UP Railroad right-of-way.

Alternative 2—North of UP Railroad/Fannin: This LRT alternative begins in the vicinity of Beltway 8 and US 90A and runs northeast along the north side of the UP Railroad right-of way. At Fannin Street it turns north to connect to the existing METRORail Red Line. A Hillcroft/West Airport Alignment Option turns north at Hillcroft Street and then east onto West Airport Boulevard. After crossing Chimney Rock Road, it merges back along the north side of the UP Railroad right-of-way.

Alternative 3—UP Right-of-Way—Fannin: This commuter rail alternative begins in the vicinity of Beltway 8 and US 90A and runs northeast within the UP Railroad right-of-way. At Fannin, it turns north to connect to the existing METRORail Red Line.

Alternative 4—Between UP Railroad and US 90A—Buffalo Lakes/West Bellfort: This LRT alternative begins in the vicinity of Beltway 8 and US 90A and runs northeast between the UP Railroad and US 90A. It turns north and runs through the future Buffalo Lakes development. At West Bellfort Road, it turns east and follows West Bellfort Road to Fannin Street, where it turns north and connects to the existing METRORail Red line.

Alternative 5—South of US 90A—Buffalo Lakes/West Bellfort: This LRT alternative begins in the vicinity of Beltway 8 and US 90A and runs northeast along the south side of the US 90A. It turns north and runs through the future Buffalo Lakes development. At West Bellfort Road, it turns east and follows West Bellfort Road to Fannin Street, where it turns north to connect to the existing METRORail Red Line.

Possible Effects

The preliminary set of alternatives that have been identified would use UPRR ROW, TXDOT ROW, newly acquired right-of-way, or a combination of each. Each of the proposed alternatives may pose different environmental concerns for analysis. Alignments using UPRR ROW could have potential impacts in the areas of freight rail operations, noise & vibration, hazardous materials, water quality, floodplains, and aesthetics. Proposed alignments that use TxDOT ROW of South Main (US 90A) could have impacts in the areas of noise & vibration, water quality, traffic, and floodplains. Newly acquired ROW could have potential environmental impacts on a broader range of categories such as wetlands, floodplains, parkland, residential and industrial property displacements, noise & vibration, threatened & endangered species, and cultural resources. The proposed project would occur in the Houston-Galveston region, which is classified as a “severe” non-attainment area for ground level zone; therefore, all alternatives would be investigated for air quality impacts.

Environmental justice issues will be examined for all alternatives, and Limited English Proficiency and Title VI requirements documented. The indirect and cumulative effects of the proposed project would also be analyzed in the EIS.

The EIS will take into account both positive and negative impacts, direct and indirect impacts, short-term and long-term impacts and site specific and corridor wide impacts. The impact evaluation will be consistent with all Federal, State, and local criteria, regulations and policies. The EIS will identify measures to avoid, minimize, and mitigate adverse environmental and community impacts. To ensure that all significant issues related to this proposed action are identified and addressed, scoping comments and suggestions are invited from all interested parties. In addition, a Public Involvement Program will include outreach to community and civic groups; periodic meetings with various local organizations; a public hearing on release of the draft EIS; and development and distribution of project newsletters.

FTA Procedures

The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5323(b), and 5324), the project-level air quality conformity regulation of the U.S. Environmental Protection Agency (EPA) (40 CFR part 93), the section 404(b)(1) guidelines of EPA (40 CFR part 230), the regulation implementing section 106 of the National Historic Preservation Act (36 CFR part 800), the regulation implementing section 7 of the Endangered Species Act (50 CFR part 402), section 4(f) of the Department of Transportation Act (23 CFR part 774), and Executive Orders 12898 on environmental justice, 11988 on floodplain management, and 11990 on the protection of the wetlands.

The FTA regulations implementing NEPA, as well as provisions of the Safe, Accountable, Flexible, Efficient Transportation Equity Act: A Legacy for Users (SAFETEA-LU), requires that FTA and METRO (1) invite other Federal and non-Federal agencies and Native American Tribes that may have an interest in the proposed project to become “participating agencies;” (2) provide an opportunity for involvement by participating agencies and the public to help define the purpose and need, and the range of alternatives for consideration; and (3) establish a plan for coordinating public and agency participation in, and comment on, the environmental review. It is possible that FTA and METRO will not be able to identify all Federal and non-Federal agencies and Native American Tribes that may have such an interest. Any Federal or non-Federal agency or Native American Tribe interested in the proposed project that does not receive an invitation to become a participating agency should notify at the earliest opportunity the Project Manager identified above under ADDRESSES.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document will be available for review at the libraries and governments offices in the project area; an electronic copy of the complete environmental document will also be available on the project Web site at http://www.ridemetro.org.

Blas M. Uribe,
FTA Deputy Regional Administrator.

[FR Doc. 2011-149 Filed 1-7-11; 8:45 am]

BILLING CODE P